DEPARTMENT OF TRANSPORTATION

Federal Aviation Administration

14 CFR Part 39

[Docket No. FAA-2006-24966; Directorate Identifier 2006-NM-049-AD; Amendment 39-14629; AD 2006-12-04]

RIN 2120-AA64

Airworthiness Directives; Viking Air Limited Model DHC-7 Airplanes

AGENCY: Federal Aviation Administration (FAA), Department of Transportation (DOT).

ACTION: Final rule; request for comments.

SUMMARY: The FAA is adopting a new airworthiness directive (AD) for certain Viking Air Limited Model DHC-7 airplanes. This AD requires revising the FAA-approved Airworthiness Limitations section of the airplane maintenance manual to prohibit operation of the airplane past its designed life limit for the primary structure, which is 80,000 total flight cycles. This AD also requires contacting the FAA for approval of analysis that substantiates that the airplane is safe to continue operation beyond the designed life limit. This AD results from a report that the designed life limit for the primary structure for the affected airplanes is 80,000 total flight cycles. We are issuing this AD to prevent continued operation of an airplane beyond its designed life limit for the primary structure, which could result in reduced structural integrity of the airplane.

DATES: This AD becomes effective June 21, 2006.

We must receive comments on this AD by August 7, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: George Duckett, Aerospace Engineer, Airframe and Propulsion Branch, ANE-171, FAA, New York Aircraft Certification Office, 1600 Stewart Avenue, suite 410, Westbury, New York 11590; telephone (516) 228-7325; fax (516) 794-5531.

SUPPLEMENTARY INFORMATION:

Discussion

Transport Canada Civil Aviation (TCCA), which is the airworthiness authority for Canada, notified us that an unsafe condition may exist on certain Viking Air Limited Model DHC-7 airplanes. TCCA advises that the designed life limit for the primary structure for the affected airplanes is 80,000 total flight cycles. TCCA states that the operator's approved maintenance schedule should be revised to prohibit operators from flying the airplane after it reaches its design goal, unless the operator complies with further inspections and/or modifications. Continued operation of an airplane beyond its designed life limit for the primary structure, if not corrected, could result in reduced structural integrity of the airplane.

TCAA issued Canadian airworthiness directive CF-2005-36, dated September 28, 2005, to ensure the continued airworthiness of these airplanes in Canada.

FAA's Determination and Requirements of This AD

This airplane model is manufactured in Canada and is type certificated for operation in the United States under the provisions of section 21.29 of the Federal Aviation Regulations (14 CFR 21.29) and the applicable bilateral airworthiness agreement. Pursuant to this bilateral airworthiness agreement, the TCCA has kept the FAA informed of the situation described above. We have examined the TCCA's findings, evaluated all pertinent information, and determined that we need to issue an AD for products of this type design that are certificated for operation in the United States.

Therefore, we are issuing this AD, which would require revising the Airworthiness Limitations section of the Bombardier DHC-7 Dash 7 maintenance manual and the Dash 7 Series 150 maintenance manual to prohibit operation of the airplane past its designed life limit for the primary structure, which is 80,000 total flight cycles. This AD also requires contacting the FAA for approval to continue operation beyond the designed life limit.

Differences Between This AD and the Canadian Airworthiness Directive

The Canadian airworthiness directive specifies that operators should ground airplanes that have reached the designed life limit until operators provide data to substantiate compliance with Canadian Airworthiness Regulation CAR 511.34. This AD requires that operators contact the FAA to substantiate continued safe operation beyond the designed life limit of 80,000 total flight cycles.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required AMM revision will take about 1 work hour per airplane at an average labor rate of $80 per work hour. Based on these figures, the cost of the AMM revision for U.S. operators will be $80 per airplane. We recognize that this AD may impose certain additional operational costs. However, we cannot calculate those costs because we cannot predict the extent of any necessary repairs to ensure the continued airworthiness of the affected airplanes.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2006-24966; Directorate Identifier 2006-NM-049-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-12-04 Viking Air Limited (Formerly Bombardier, Inc.): Amendment 39-14629. Docket No. FAA-2006-24966; Directorate Identifier 2006-NM-049-AD.

Effective Date

(a) This AD becomes effective June 21, 2006.

Affected ADs

(b) None

Applicability

(c) This AD applies to Viking Air Limited Model DHC-7-1, DHC-7-100, DHC-7-101, DHC-7-102, and DHC-7-103 airplanes, certificated in any category; except airplanes having serial numbers 3 through 10 inclusive, 12 through 14 inclusive, and 16 through 27 inclusive.

Unsafe Condition

(d) This AD results from a report that the designed life limit for the primary structure for the affected airplanes is 80,000 total flight cycles. We are issuing this AD to prevent continued operation of an airplane beyond its designed life limit for the primary structure, which could result in reduced structural integrity of the airplane.

Compliance

(e) You are responsible for having the actions required by this AD performed within the compliance times specified, unless the actions have already been done.

Airworthiness Limitations Revision

(f) Within 30 days after the effective date of this AD: Revise the FAA-approved Airworthiness Limitations section (ALS) of the Bombardier DHC-7 Dash 7 maintenance manual and the Dash 7 Series 150 maintenance manual to state the following (this may be done by inserting a copy of this AD into the ALS). Thereafter, maintain the airplane in accordance with the limitations specified in these maintenance manual revisions:

“Do not operate the airplane beyond 80,000 total flight cycles.”

(g) When the statement specified in paragraph (f) of this AD has been included in the general revisions of the ALS, the general revisions may be incorporated into the ALS and the copy of the AD may be removed from the ALS.

(h) The airworthiness limitation specified in paragraph (f) of this AD may be removed from the maintenance manuals specified in paragraph (f) of this AD after the Manager, New York Aircraft Certification Office (ACO), FAA, approves analysis that substantiates continued safe operation beyond the designed life limit of 80,000 total flight cycles.

Alternative Methods of Compliance (AMOCs)

(i)(1) The Manager, New York ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) Canadian airworthiness directive CF-2005-36, dated September 28, 2005, also addresses the subject of this AD.

Material Incorporated by Reference

(k) None.

Issued in Renton, Washington, on May 31, 2006.
Jeffrey E. Duven,
Acting Manager, Transport Airplane Directorate, Aircraft Certification Service.

[FR Doc. 06-5119 Filed 6-5-06; 8:45 am]

BILLING CODE 4910-13-P